DEPARTMENT OF TRANSPORTATION

Federal Aviation Administration

14 CFR Part 71

[Docket No. FAA-2010-1264; Airspace Docket No. 10-AWP-23]

Amendment of Class D and Class E Airspace; Livermore, CA

AGENCY: Federal Aviation Administration (FAA), DOT.

ACTION: Final rule.

SUMMARY: This action amends existing Class E airspace at Livermore, CA, to accommodate aircraft using new Instrument Landing System (ILS) Localizer (LOC) standard instrument approach procedures at Livermore Municipal Airport, and also corrects the airspace designation. This action also corrects a typographical error in the airspace description for Class D airspace. This improves the safety and management of Instrument Flight Rules (IFR) operations at the airport.

DATES: Effective date, 0901 UTC, August 25, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On February 14, 2011, the FAA published in the Federal Register a notice of proposed rulemaking to amend controlled airspace at Livermore, CA (76 FR 8322). Interested parties were invited to participate in this rulemaking effort by submitting written comments on the proposal to the FAA. No comments were received.

Class D and Class E airspace designations are published in paragraph 5000 and 6005, respectively, of FAA Order 7400.9U dated August 18, 2010, and effective September 15, 2010, which is incorporated by reference in 14 CFR 71.1. The Class D and Class E airspace designations listed in this document will be published subsequently in that Order.

The Rule

This action amends Title 14 Code of Federal Regulations (14 CFR) part 71 by modifying Class E extending upward from 700 feet above the surface, at Livermore Municipal Airport, Livermore, CA, to accommodate IFR aircraft executing new ILS LOC standard instrument approach procedures at the airport, and adds the airport name and geographic coordinates to the airspace designation. Also, this action corrects a typographic error in the regulatory text of the Class D airspace area by correcting the word `iport' to `Airport'. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Livermore Municipal Airport, Livermore, CA.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010 is amended as follows:

Paragraph 5000 Class D airspace.

* * * * *

AWP CA D Livermore, CA [Amended]

Livermore Municipal Airport, CA

(Lat. 37°41′36″ N., long. 121°49′13″ W.)

That airspace extending upward from the surface to and including 2,900 feet MSL within a 4-mile radius of Livermore Municipal Airport. This Class D airspace area is effective during the specific dates and times established in advance by a Notice to Airmen. The effective date and time will thereafter be continuously published in the Airport/Facility Directory.

Paragraph 6005 Class E airspace areas extending upward from 700 feet or more above the surface of the earth.

* * * * *

AWP CA E5 Livermore, CA [Amended]

Livermore Municipal Airport, CA

(Lat. 37°41′36″ N., long. 121°49′13″ W.)

That airspace extending upward from 700 feet above the surface within 8.1 miles north and 4 miles south of the Livermore Municipal Airport 091° bearing extending 23 miles east of Livermore Municipal Airport, and within 3.5 miles north and 4 miles south of the Livermore Municipal Airport 271° bearing extending 2.6 miles west of the airport.

Issued in Seattle, Washington, on May 5, 2011.
John Warner,
Manager, Operations Support Group, Western Service Center.

[FR Doc. 2011-11695 Filed 5-16-11; 8:45 am]

BILLING CODE 4910-13-P